COMMISSION ON CIVIL RIGHTS

Sunshine Act Meeting Notice

AGENCY: U.S. Commission on Civil Rights.

ACTION: Announcement of Public Meeting of Oklahoma Advisory Committee.

SUMMARY: Notice is hereby given, pursuant to the provisions of the rules and regulations of the U.S. Commission on Civil Rights (Commission) and the Federal Advisory Committee Act that the Oklahoma Advisory Committee (Committee) will hold a meeting on Monday, April 29, 2019 at 12:00 p.m. Central Daylight Time (CDT). The Committee will discuss the implementation of their study of the impact of State Question 759, which prohibited preferential treatment or discrimination based on race, color, sex, ethnicity or national origin in public employment, education, and contracting.

DATES: Monday, April 29, 2019 at 12:00 p.m. CDT.

Public Call Information: Dial: 855-719-5012, Conference ID: 8369861.

FOR FURTHER INFORMATION CONTACT: Alejandro Ventura, DFO, aventura@usccr.gov or (213) 894-3437.

SUPPLEMENTARY INFORMATION: Members of the public may listen to this discussion through the above call in number. An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are entitled to submit written comments; the comments must be received within 30 days following the meeting. Written comments may be mailed to: Regional Programs Unit, U.S. Commission on Civil Rights, 230 S Dearborn, Suite 2120, Chicago, IL 60604. They may also be faxed to (312) 353-8324, or emailed to csanders@usccr.gov. Persons who desire additional information may contact the Regional Programs Unit at (312) 353-8311.

Records generated from this meeting may be inspected and reproduced at the Regional Programs Unit Office, as they become available, both before and after the meeting. Records of the meeting will be available via www.facadatabase.gov under the Commission on Civil Rights, Oklahoma Advisory Committee link. Persons interested in the work of this Committee are directed to the Commission's website, http://www.usccr.gov, or may contact the Regional Programs Unit at the above addresses.

Agenda

I. Welcome and Roll Call

II. Approval of Minutes

III. Discussion on Implementing the Study of State Question 759

IV. Public Comments

V. Next Steps

VI. Adjournment

Dated: April 11, 2019.
Brian Walch,
Director, Communications and Public Engagement.

[FR Doc. 2019-07569 Filed 4-11-19; 4:15 pm]

BILLING CODE 6335-01-P